INTERNATIONAL TRADE COMMISSION

[Investigation Nos. 701-TA-585-586 and 731-TA-1383-1384 (Review)]

Stainless Steel Flanges From China and India; Determinations

On the basis of the record ¹ developed in the subject five-year reviews, the United States International Trade Commission (“Commission”) determines, pursuant to the Tariff Act of 1930 (“the Act”), that revocation of the countervailing and antidumping duty orders on stainless steel flanges from China and India would be likely to lead to continuation or recurrence of material injury to an industry in the United States within a reasonably foreseeable time.²

¹ The record is defined in § 207.2(f) of the Commission's Rules of Practice and Procedure (19 CFR 207.2(f)).

² Commissioner Randolph J. Stayin not participating.

Background

The Commission instituted these reviews on May 1, 2023 (88 FR 26592) and determined on August 4, 2023 that it would conduct expedited reviews (88 FR 63124, September 14, 2023).

The Commission made these determinations pursuant to section 751(c) of the Act (19 U.S.C. 1675(c)). It completed and filed its determinations in these reviews on October 19, 2023. The views of the Commission are contained in USITC Publication 5467 (October 2023), entitled Stainless Steel Flanges from China and India: Investigation Nos. 701-TA-585-586 and 731-TA-1383-1384 (Review).

By order of the Commission.
Issued: October 19, 2023.
Lisa Barton,
Secretary to the Commission.

[FR Doc. 2023-23486 Filed 10-23-23; 8:45 am]

BILLING CODE 7020-02-P